DEPARTMENT OF AGRICULTURE

Food Safety and Inspection Service

[Docket No. FSIS-2007-0005]

Codex Alimentarius Commission: Meeting of the Codex Committee on Methods of Analysis and Sampling

AGENCY: Office of the Under Secretary for Food Safety, USDA.

ACTION: Notice of public meeting and request for comments.

SUMMARY: The Office of the Under Secretary for Food Safety, U.S. Department of Agriculture (USDA) and the Food and Drug Administration (FDA) are sponsoring a public meeting on February 22, 2007. The objective of the public meeting is to provide information and receive public comments on agenda items and draft United States positions that will be discussed at the Twenty-Eighth Session of the Codex Committee on Methods of Analysis and Sampling (CCMAS) of the Codex Alimentarius Commission (Codex), which will be held in Budapest, Hungary March 5-9, 2007. The Under Secretary for Food Safety and The Food and Drug Administration recognize the importance of providing interested parties the opportunity to obtain background information on the 28th Session of CCMAS and to address items on the agenda.

DATES: The public meeting is scheduled for Thursday, February 22, 2007 from 10:30 a.m. to 12 noon.

ADDRESSES: The public meeting will be held in Room 1A002, Harvey Wiley Federal Building, 5100 Paint Branch Parkway, College Park, MD 20740. Documents related to the 28th Session of CCMAS will be accessible via the World Wide Web at the following address: http://www.codexalimentarius.net/current.asp.

The U.S. Delegate to the 28th Session of CCMAS, Dr. Gregory Diachenko of FDA invites U.S. interested parties to submit their comments electronically to the following e-mail address Gregory.Diachenko@fda.hhs.gov.

For Further Information About the 28th Session of the CCMAS Contact: Dr. Gregory Diachenko, Room HFS-245, Harvey Wiley Federal Building, 5100 Paint Branch Parkway, College Park, MD 20740-3835, Phone: (301) 436-1898, Fax: (301) 436-2364, e-mail: Gregory.Diachenko@fda.hhs.gov.

For Further Information About the Public Meeting Contact: Mr. Syed Ali, International Issues Analyst, U.S. Codex Office, Food Safety and Inspection Service, Room 4861, South Building, 1400 Independence Avenue, SW., Washington, DC 20250, Phone: (202) 205-7760, Fax: (202) 720-3157 syed.ali@fsis.usda.gov.

SUPPLEMENTARY INFORMATION:

Background

The Codex Alimentarius (Codex) was established in 1963 by two United Nations organizations, the Food and Agriculture Organization and the World Health Organization. Through adoption of food standards, codes of practice, and other guidelines developed by its committees, and by promoting their adoption and implementation by governments, Codex seeks to protect the health of consumers and ensure that fair practices are used in trade.

The Codex Committee on Methods of Analysis and Sampling was established to elaborate codes, standards and related texts to define the criteria appropriate to Codex Methods of Analysis and Sampling. The Committee is hosted by Hungary.

Issues To Be Discussed at the Public Meeting

The following items on the Agenda for the 28th Session of CCMAS will be discussed during the public meeting:

• Matters Referred to the Committee by the Codex Alimentarius Commission and other Codex Committees.

• Draft Guidelines for Evaluating Acceptable Methods of Analysis.

• Draft Guidelines for Settling Disputes over Analytical (Test) Results.

• Proposed Draft Guidelines on Analytical Terminology for Codex Use.

• Endorsement of Methods of Analysis Provisions in Codex Standards.

• Conversion of Methods for Trace Elements into Criteria.

• Criteria for the Methods for the Detection and Identification of Foods Derived from Biotechnology.

• Revision of the Principles for the Establishment of Codex Sampling Procedures.

Each issue listed will be fully described in documents distributed, or to be distributed, by the Secretariat prior to the meeting. Members of the public may access or request copies of these documents (see For Further Information About the 28th Session of the CCMAS Contact).

Public Meeting

At the February 22, 2007 public meeting, draft U.S. positions on the agenda items will be described and discussed, and attendees will have the opportunity to pose questions and offer comments. Written comments may be offered at the meeting or sent to the U.S. Delegate for the 28th Session of CCMAS, Dr. Gregory Diachenko (see ADDRESSES). Written comments should state that they relate to activities of the 28th Session of CCMAS.

Additional Public Notification

Public awareness of all segments of rulemaking and policy development is important. Consequently, in an effort to ensure that minorities, women, and persons with disabilities are aware of this notice, FSIS will announce it on-line through the FSIS Web page located at http://www.fsis.usda.gov/regulations/2007_Notices_Index/. FSIS also will make copies of this Federal Register publication available through the FSIS Constituent Update, which is used to provide information regarding FSIS policies, procedures, regulations, Federal Register notices, FSIS public meetings, recalls, and other types of information that could affect or would be of interest to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

Done at Washington, DC on February 8, 2007.
F. Edward Scarbrough,
U.S. Manager for Codex Alimentarius.

[FR Doc. E7-2437 Filed 2-12-07; 8:45 am]

BILLING CODE 3410-DM-P